ENVIRONMENTAL PROTECTION AGENCY

[ER-FRL-9033-1]

Environmental Impact Statements; Notice of Availability

Responsible Agency: Office of Federal Activities, General Information (202) 564-7146 or http://www.epa.gov/nepa.

Weekly receipt of Environmental Impact Statements (EISs)

Filed 05/01/2017 Through 05/05/2017

Pursuant to 40 CFR 1506.9

Notice:

Section 309(a) of the Clean Air Act requires that EPA make public its comments on EISs issued by other Federal agencies. EPA's comment letters on EISs are available at: http://www.epa.gov/compliance/nepa/eisdata.html.

EIS No. 20170073, Draft, USACE, NC, Bogue Banks Master Beach Nourishment Project, Comment Period Ends: 06/26/2017, Contact: Mickey Sugg 910-251-4811

EIS No. 20170074, Final Supplement, USACE, WV, Bluestone Dam Safety Modification, Review Period Ends: 06/12/2017, Contact: Rebecca Rutherford 304-399-5924

EIS No. 20170075, Draft, BPA, ID, Crystal Springs Hatchery Program, Comment Period Ends: 06/26/2017, Contact: Jenna Peterson 503-230-3018

EIS No. 20170076, Final Supplement, USACE, MO, Mississippi River Between the Ohio and Missouri Rivers (Regulating Works), Review Period Ends: 06/12/2017, Contact: Kip Runyon 314-331-8396

EIS No. 20170077, Final, USFS, CO, Upper Monument Creek Landscape Restoration, Review Period Ends: 06/26/2017, Contact: John Dow 719-553-1476

EIS No. 20170078, Draft, USFWS, NE., Issuance of an Incidental Take Permit and Implementation of a Habitat Conservation Plan for the R-Project Transmission Line, Comment Period Ends: 07/11/2017, Contact: Eliza Hines 308-382-6468 ext. 204

EIS No. 20170079, Draft Supplement, USFS, WY, Shoshone National Forest Land Management Plan, Comment Period Ends: 08/10/2017, Contact: Casey McQuiston 307-578-5134

Dated: May 9, 2017.
Dawn Roberts,
Management Analyst, NEPA Compliance Division, Office of Federal Activities.

[FR Doc. 2017-09680 Filed 5-11-17; 8:45 am]

BILLING CODE 6560-50-P